DEPARTMENT OF THE INTERIOR

National Park Service

[NPS-WASO-NAGPRA-NPS0039888; PPWOCRADN0-PCU00RP14.R50000]

Notice of Intended Repatriation: Arizona State Museum, University of Arizona, Tucson, AZ

AGENCY: National Park Service, Interior.

ACTION: Notice.

SUMMARY: In accordance with the Native American Graves Protection and Repatriation Act (NAGPRA), the Arizona State Museum, University of Arizona, intends to repatriate certain cultural items that meet the definition of objects of cultural patrimony and that have a cultural affiliation with the Indian Tribes or Native Hawaiian organizations in this notice.

DATES: Repatriation of the cultural items in this notice may occur on or after May 12, 2025.

ADDRESSES: Cristin Lucas, Repatriation Coordinator, Arizona State Museum, 1013 East University Boulevard, Tucson, AZ 85721-0026, telephone (520) 626-0320, email lucasc@arizona.edu.

SUPPLEMENTARY INFORMATION: This notice is published as part of the National Park Service's administrative responsibilities under NAGPRA. The determinations in this notice are the sole responsibility of the Arizona State Museum, and additional information on the determinations in this notice, including the results of consultation, can be found in the summary or related records. The National Park Service is not responsible for the determinations in this notice.

Abstract of Information Available

A total of one lot of cultural items has been requested for repatriation. The one lot of objects of cultural patrimony is modified bone. In 1934, the Gila Pueblo Foundation acquired one lot of modified bone (GP-41951-X; SJC No. 11236) from the Sacramento Junior College in Sacramento, CA as part of an exchange. The cultural item was recorded as having been removed from the Lincoln Mound site (CA-PLA-4), Placer County, on an unknown date. The Arizona State Museum acquired the lot in 1951 after the Gila Pueblo Foundation closed. There is no noted presence of any potentially hazardous substances used to treat the cultural items.

Determinations

The Arizona State Museum has determined that:

• The one lot of objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the United Auburn Indian Community of the Auburn Rancheria of California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after May 12, 2025. If competing requests for repatriation are received, the Arizona State Museum must determine the most appropriate requestor prior to repatriation. Requests for joint repatriation of the cultural items are considered a single request and not competing requests. The Arizona State Museum is responsible for sending a copy of this notice to the Indian Tribes and Native Hawaiian organizations identified in this notice and to any other consulting parties.

Authority: Native American Graves Protection and Repatriation Act, 25 U.S.C. 3004 and the implementing regulations, 43 CFR 10.9.

Dated: April 1, 2025.
Melanie O'Brien,
Manager, National NAGPRA Program.

[FR Doc. 2025-06204 Filed 4-10-25; 8:45 am]

BILLING CODE 4312-52-P